DEPARTMENT OF ENERGY

Federal Energy Regulatory Commission

[Docket No. RP02-480-001]

Central New York Oil And Gas Company, LLC; Notice of Compliance Filing

October 17, 2002.

Take notice that on October 11, 2002, Central New York Oil And Gas Company, LLC (CNYOG) tendered for filing as part of its FERC Gas Tariff, Original Volume No. 1, the following revised tariff sheets, to be effective October 1, 2002:

First Revised Sheet No. 81

Second Revised Sheet No. 82

First Revised Sheet No. 83

First Revised Sheet No. 84

Third Revised Sheet No. 103

CNYOG states that the purpose of its filing is to comply with the Commission's September 26, 2002 order in this proceeding which accepted CNYOG's revised tariff sheets as generally complying with Order No. 587-O and directed CNYOG to file revised tariff sheets incorporating verbatim NAESB Revised Standard 1.3.2, as revised by NAESB's November 30, 2001 errata.

CNYOG further states that it has served copies of this filing upon the company's jurisdictional customers and interested state commissions.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 502-8659. The Commission strongly encourages electronic filings. See, 18 CFR 385.2001(a)(1)(iii) and the instructions on the Commission's Web site under the “e-Filing” link.

Linwood A. Watson, Jr.,
Deputy Secretary.

[FR Doc. 02-27059 Filed 10-24-02; 8:45 am]

BILLING CODE 6717-01-P